DEPARTMENT OF COMMERCE

Economic Development Administration (EDA), National Telecommunications and Information Administration (NTIA), Bureau of Industry and Security (BIS) Membership of the Performance Review Board for EDA, NTIA and BIS

AGENCY: EDA, NTIA and BIS, Department of Commerce.

ACTION: Notice of membership on the EDA, NTIA and BIS's Performance Review Board.

SUMMARY: In accordance with 5 U.S.C. 4314(c)(4), the EDA, NTIA and BIS, Department of Commerce (DOC), announce the appointment of those individuals who have been selected to serve as members of the Performance Review Board. The Performance Review Board is responsible for (1) reviewing performance appraisals and ratings of Senior Executive Service (SES) members and (2) making recommendations to the appointing authority on other performance management issues, such as pay adjustments, bonuses and Presidential Rank Awards for SES members. The appointment of these members to the Performance Review Board will be for a period of twenty-four (24) months.

DATES: The period of appointment for those individuals selected for EDA, NTIA and BIS's Performance Review Board begins on October 5, 2016.

FOR FURTHER INFORMATION CONTACT: Jennifer Munz, U.S. Department of Commerce, Office of Human Resources Management, Office of Executive Resources, 14th and Constitution Avenue NW., Room 51010, Washington, DC 20230, at (202) 482-4051.

SUPPLEMENTARY INFORMATION: In accordance with 5 U.S.C. 4314(c)(4), the EDA, NTIA and BIS, Department of Commerce (DOC), announces the appointment of those individuals who have been selected to serve as members of EDA, NTIA and BIS's Performance Review Board. The Performance Review Board is responsible for (1) reviewing performance appraisals and ratings of Senior Executive Service (SES) members and (2) making recommendations to the appointing authority on other performance management issues, such as pay adjustments, bonuses and Presidential Rank Awards for SES members. The appointment of these members to the Performance Review Board will be for a period of twenty-four (24) months.

DATES: The period of appointment for those individuals selected for EDA, NTIA and BIS's Performance Review Board begins on October 5, 2016. The name, position title, and type of appointment of each member of the Performance Review Board are set forth below:

1. Department of Commerce, National Telecommunications and Information Administration (NTIA)

Paige Atkins, Associate Administrator for Spectrum Management, Career SES

2. Department of Commerce, National Telecommunications and Information Administration (NTIA)

Leonard Bechtel, Chief Financial Officer and Director of Administration, Career SES

3. Department of Commerce, Bureau of Industry and Security (BIS)

Matthew Borman, Deputy Assistant Secretary for Export Administration, Career SES

4. Department of Commerce, National Telecommunications and Information Administration (NTIA)

Frank Freeman, Chief Financial Officer, First Responder Network Authority, Career SES

5. Department of Commerce, National Telecommunications and Information Administration (NTIA)

Jim Gwinn, Chief Information Officer, First Responder Network Authority, Career SES

6. Department of Commerce, Office of the Secretary, Office of the General Counsel (OS/OGC)

Stephen D. Kong, Chief Counsel for Economic Development, Career SES, Chairperson

7. Department of Commerce, Office of the Secretary (OS), Office of the Deputy Secretary

Lauren Leonard, Director, Office of White House Liaison, Non-Career SES

8. Department of Commerce, Bureau of Industry and Security (BIS)

Richard Majauskas, Deputy Assistant Secretary for Export Enforcement, Career SES

9. Department of Commerce, Office of the Secretary (OS), Office of the Chief Financial Officer and Assistant Secretary for Administration (CFO/ASA)

Renee A. Macklin, Director for Program Evaluation and Risk Management, Career SES

10. Department of Commerce, Office of the Secretary (OS), Office of the Deputy Secretary

Alejandro Rodriguez, Chief of Staff to the Deputy Secretary, Non-Career SES

11. Department of Commerce, Bureau of Industry and Security (BIS)

Carol Rose, Chief Financial Officer and Director of Administration, Career SES

Dated: September 19, 2016.
Denise A. Yaag,
Director, Office of Executive Resources, Office of Human Resources Management, Office of the Secretary/Office of the CFO/ASA, Department of Commerce.

[FR Doc. 2016-24049 Filed 10-4-16; 8:45 am]

BILLING CODE 3510-25-P